DEPARTMENT OF ENERGY

Federal Energy Regulatory Commission

[Docket No. ER01-1205-000]

Portland General Electric Company; Notice of Filing

February 13, 2001.

Take notice that on February 8, 2001, Portland General Electric Company (PGE), tendered for filing pursuant to section 205 of the Federal Power Act its FERC Electric Tariff—Fifth Revised Volume 11. Volume 11 provides for PGE to make sales at market-based rates, and the changes being implemented permit PGE to make sales under the EEI Master Power Purchase & Sale Agreement. PGE states that it requires the use of this agreement to sell power to the California Department of Water Resources (CDWR) and that it wishes to be able to use the agreement to sell to other parties as well.

PGE requests that the Fifth Revised Volume 11 be made effective as of February 7, 2001 so that sales to CDWR could commence immediately.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before March 1, 2001. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 01-4068 Filed 2-16-01; 8:45 am]

BILLING CODE 6717-01-M